Title 3—

The President

Proclamation 8218 of January 28, 2008

National African American History Month, 2008

By the President of the United States of America

A Proclamation

During National African American History Month, we honor the achievements and celebrate the rich heritage of African Americans.

Throughout our Nation's history, African Americans from all walks of life have offered their talents to the betterment of American society. Scholars such as Frederick Douglass and W.E.B. DuBois were early leaders who placed great importance on educating all people about the need for justice and racial equality. Athletes such as Jackie Robinson and Althea Gibson persevered while breaking the color barrier and competing at the highest levels of sports. Musicians like Nat King Cole and Billie Holiday lifted the American spirit with their creativity and musical gifts. Through their extraordinary accomplishments, these leaders helped bring our Nation closer to fulfilling its founding ideals.

This year's theme, “Carter G. Woodson and the Origins of Multiculturalism,” honors an educator who taught his fellow citizens about the traditions and contributions of African Americans. His dedication to educating Americans about cultural diversity initiated this celebration of African-American history. Our Nation is now stronger and more hopeful because generations of leaders like him have worked to help America live up to its promise of equality and the great truth that all of God's children are created equal.

Throughout African American History Month, we celebrate the many contributions African Americans have made to our Nation, and we are reminded of their courage in their struggle to change the hearts and minds of our citizens. While much progress has been made, we must continue to work together to achieve the promise and vision of our great Nation.

NOW, THEREFORE, I, GEORGE W. BUSH, President of the United States of America, by virtue of the authority vested in me by the Constitution and laws of the United States, do hereby proclaim February 2008 as National African American History Month. I call upon public officials, educators, and all the people of the United States to observe this month with appropriate programs and activities.

IN WITNESS WHEREOF, I have hereunto set my hand this twenty-eighth day of January, in the year of our Lord two thousand eight, and of the Independence of the United States of America the two hundred and thirty-second.

[FR Doc. 08-459

Filed 1-30-08; 8:45 am]

Billing code 3195-01-P